DEPARTMENT OF LABOR

Employment and Training Administration

Notice of a Meeting: Native American Employment and Training Council

AGENCY: Employment and Training Administration, Labor.

ACTION: Notice of meeting.

SUMMARY: Pursuant to Section 10(a)(2) of the Federal Advisory Committee Act (FACA) (Pub. L. 92-463), as amended, and Section 166(h)(4) of the Workforce Investment Act (WIA) [29 U.S.C. 2911(h)(4)], notice is hereby given of the next meeting of the Native American Employment and Training Council (Council), as constituted under WIA.

DATES: The meeting will begin at 9:00 a.m. (Eastern Daylight Time) on Wednesday, May 28, 2014, and continue until 4:30 p.m. that day. The period from 2:30 p.m. to 4:30 p.m. on May 28, 2014, will be reserved for participation and presentations by members of the public. The meeting will reconvene at 9:00 a.m. on Thursday, May 29, 2014, and adjourn at 12:00 p.m. that day.

ADDRESSES: The meeting on May 28, 2014 will be held at the U.S. Bureau of Labor Statistics, Postal Square Building, 2 Massachusetts Avenue, Northeast, Washington, DC 20210, Conference Room # 9. The meeting on May 29, 2014, will be held at the U.S. Department of Labor, 200 Constitution Avenue, Northwest, Washington, DC 20210, Room C-5320.

SUPPLEMENTARY INFORMATION: The meeting is open to the public. Members of the public not present may submit a written statement on or before Tuesday, May 27, 2014, to be included in the record of the meeting. Submit written statements to Mr. Craig Lewis, Designated Federal Official (DFO), U.S. Department of Labor, 200 Constitution Avenue, Northwest, Room S-4209, Washington, DC 20210 or email: Lewis.Craig@dol.gov. Written statements may also be faxed to Mr. Lewis at (202) 693-3717 on or before Tuesday, May 27, 2014. Persons who need special accommodations should also contact Mr. Lewis at (202) 693-3384, at least two business days before the meeting. The formal agenda will focus on the following topics: (1) Election of Chair for Council; (2) U.S. Department of Labor, Employment and Training Administration Updates; (3) Training and Technical Assistance; (4) Council and Work Group Updates and Recommendations; (5) New Business and Next Steps; and (6) Public Comment.

FOR FURTHER INFORMATION CONTACT: Mr. Craig Lewis, DFO, Division of Indian and Native American Programs, Employment and Training Administration, U.S. Department of Labor, Room S-4209, 200 Constitution Avenue, Northwest, Washington, DC 20210. Telephone number (202) 693-3384 (VOICE) (this is not a toll-free number).

Eric M. Seleznow,
Acting Assistant Secretary for Employment and Training Administration, Labor.

[FR Doc. 2014-08832 Filed 4-17-14; 8:45 am]

BILLING CODE 4501-FR-P